DEPARTMENT OF TRANSPORTATION

Transportation Security Administration

[Docket No. TSA 2001-11120]

RIN 2110-AA01

Reports, Forms and Record Keeping Requirements OMB Approval of Agency Information Collection Activity

AGENCY: Transportation Security Administration, DOT.

ACTION: Notice.

SUMMARY: Pursuant to the Aviation and Transportation Security Act (ATSA), Pub. L. 107-71, November 19, 2001, the Transportation Security Administration (TSA) imposed a passenger civil aviation security service fee (September 11th Security Fee) on certain specified passenger enplanements. The Interim Final Rule (IFR) imposing the September 11th Security Fee contains information collection requirements. On December 31, 2001, the Federal Register published this IFR, and it may be reviewed at 66 FR 67698.

The IFR indicates that, pursuant to 5 CFR 1320.13, Emergency processing, TSA has asked the Office of Management and Budget (OMB) for temporary emergency approval for the information collection contained therein. On January 31, 2002, the Federal Register published an Emergency Federal Register Notice that included TSA's estimated costs, estimated burden hours, and other calculations regarding the information collection that TSA submitted to OMB. The Emergency Federal Register Notice may be reviewed at 67 FR 4866.

This Notice serves to inform the public that on January 31, 2002, OMB approved the information collection contained in the IFR and assigned it OMB control number 2110-0001. The information collection is approved through July 31, 2002. During this time period, TSA will apply to OMB for a three-year extension of the information collection approval.

FOR FURTHER INFORMATION CONTACT: Rita Maristch, Office of the General Counsel, Office of Environmental, Civil Rights, and General Law, Department of Transportation (C-10), 400 Seventh Street, SW., Room 10102, Washington, DC 20590, (202) 366-9161 (voice), (202) 366-9170 (fax). You may also contact Steven Cohen, Office of the General Counsel (C-10), at (202) 366-4684.

Issued on: February 14, 2002.
Rosalind A. Knapp,
Deputy General Counsel, U.S. Department of Transportation.

[FR Doc. 02-4105 Filed 2-15-02; 11:33 am]

BILLING CODE 4910-62-P